DEPARTMENT OF ENERGY

Federal Energy Regulatory Commission

[Docket No. EL04-11-000]

CAlifornians for Renewable Energy, Inc., (CARE), Complainant, v. Calpine Energy Services, L.P., and the California Department of Water Resources, Respondents; Notice of Complaint

October 23, 2003.

Take notice that on October 20, 2003, CAlifornians for Renewable Energy, Inc. (CARE) (Complainant) submitted a complaint against Calpine, a seller of long term contracts to the California Department of Water Resources (CDWR), a buyer, collectively (Respondents) alleging that the prices, terms, and conditions of such contracts are unjust and unreasonable, Calpine and CDWR failed to file their rates pursuant to Section 205 of the Federal Power Act (FPA), they abrogate the terms and conditions under their revised contract 2 product 1 requiring performance on specific construction milestones, to provide timely status reports and, to the extent applicable, are not in the public interest. Complainant alleges that Respondents obtained the prices, terms, and conditions in the contracts through the exercise of market power, in violation of the FPA, and that the rates charged do not serve the “public interest” under the FPA and are in fact unduly preferential and discriminatory against third party customers, and impose an “excessive burden” on these customers among whom are CARE's members who CARE is representing. Complaint alleges Respondents' actions are causing injury to the citizens and ratepayers, including CARE's members that CARE is representing.

CARE states that copies of this filing were served upon Respondents and other interested parties.

Any person desiring to intervene or to protest this filing should file with the Federal Energy Regulatory Commission, 888 First Street NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's web site under the “e-Filing” link. The Commission strongly encourages electronic filings.

Comment Date: November 10, 2003.

Linda Mitry,
Acting Secretary.

[FR Doc. E3-00650 Filed 12-24-03; 8:45 am]

BILLING CODE 6717-01-P